NATIONAL SCIENCE FOUNDATION

Special Emphasis Panel in Biological Sciences; Notice of Meeting

In accordance with the Federal Advisory Committee Act (Pub. L. 92-463, as amended), the National Science Foundation announces the following meeting:

Name: Special Emphasis Panel in Biological Sciences (1754).

Date & Time: February 12-13, 2001; 9 a.m.-5 p.m.

Place: National Science Foundation, 4201 Wilson Boulevard, Arlington, VA.

Type of Meeting: Closed.

Contact Person: Dr. Eve Barak, Acting Deputy Division Director, Molecular and Cellular Biosciences, Room 655, NSF, 4201 Wilson Boulevard, Arlington, VA 22230, Telephone: (703) 292-8440.

Purpose of Meeting: To provide advice and recommendations concerning proposals submitted to the NSF for financial support.

Agenda: To review and evaluate proposals submitted to the Nanoscale Interdisciplinary Research Teams competition under Program Announcement 00-119 as part of the selection process for awards.

Reason for Closing: The proposals being reviewed include information of a proprietary or confidential nature, including technical information; financial data, such as salaries; and personal information concerning individuals associated with the proposals. These matters are exempt under 5 U.S.C. 552b(c), (4) and (6) of the Government Sunshine Act.

Dated: January 17, 2001.
Karen J. York,
Committee Management Officer.

[FR Doc. 01-1931 Filed 1-22-01; 8:45 am]

BILLING CODE 7555-01-M